ENVIRONMENTAL PROTECTION AGENCY

[EPA-HQ-OECA-2014-0092; FRL-9985-88-OEI]

Information Collection Request Submitted to OMB for Review and Approval; Comment Request; NESHAP for Printing, Coating and Dyeing of Fabrics and Other Textiles (Renewal)

AGENCY: Environmental Protection Agency (EPA).

ACTION: Notice.

SUMMARY: The Environmental Protection Agency (EPA) has submitted an information collection request (ICR), NESHAP for Printing, Coating and Dyeing of Fabrics and Other Textiles (EPA ICR No. 2071.07, OMB Control No. 2060-0522), to the Office of Management and Budget (OMB) for review and approval in accordance with the Paperwork Reduction Act. This is a proposed extension of the ICR, which is currently approved through March 31, 2019. Public comments were previously requested, via the Federal Register on May 30, 2018, during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before March 13, 2019.

ADDRESSES: Submit your comments, referencing Docket ID Number EPA-HQ-OECA-2014-0092, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address all comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Printing, Coating and Dyeing of Fabrics and Other Textiles apply to each existing, new, or reconstructed source involved in printing, coating, slashing, dyeing or finishing of fabric and other textiles. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, with 40 CFR part 63, subpart OOOO.

Form Numbers: None.

Respondents/Affected Entities: Facilities involved in the printing, coating, slashing, dyeing or finishing of fabric and other textiles.

Respondent's Obligation to Respond: Mandatory (40 CFR part 63, subpart OOOO).

Estimated Number of Respondents: 43 (total).

Frequency of Response: Initially and semiannually.

Total Estimated Burden: 6,700 hours (per year). Burden is defined at 5 CFR 1320.3(b).

Total Estimated Cost: $760,000 (per year), which includes $1,120 in annualized capital/startup and/or operation & maintenance costs.

Changes in the Estimates: The decrease in burden from the most-recently approved ICR is due to an adjustment that has more accurate estimates in the number of sources. There is a significant decrease in the number of respondents from the previously-approved ICR, as based on current Agency analyses. This decrease also results in a reduced number of responses. The decrease in the capital/startup vs. operation and maintenance (O&M) costs as calculated in section 6(b)(iii) is due to the decrease in the number of respondents and there being no additional sources projected over the next 3 years. The overall result is a decrease in burden hours and costs.

Courtney Kerwin,
Director, Regulatory Support Division.

[FR Doc. 2019-01844 Filed 2-8-19; 8:45 am]

BILLING CODE 6560-50-P